DEPARTMENT OF THE INTERIOR

Bureau of Land Management

[LLAKA01200.L1220000.DA0000.234; BLM_AK_FRN_MO4500169067]

Notice of Intent To Amend the Resource Management Plan for the Campbell Tract Special Recreation Management Area, Anchorage, Alaska, and Prepare an Associated Environmental Assessment

AGENCY: Bureau of Land Management, Interior.

ACTION: Notice of intent.

SUMMARY: In compliance with the National Environmental Policy Act of 1969, as amended (NEPA), and the Federal Land Policy and Management Act of 1976, as amended, the Bureau of Land Management (BLM) Alaska State Director intends to prepare a resource management plan (RMP) amendment with an associated environmental assessment (EA) for the Campbell Tract Off Highway Vehicle (OHV) Designation Amendment. This notice announces the beginning of the scoping process to solicit public comments and seek input on issues and planning criteria.

DATES: The BLM requests that the public submit comments concerning the scope of the analysis, potential alternatives, and identification of relevant information and studies by April 21, 2023. To afford the BLM the opportunity to consider issues, please ensure your comments are received prior to the close of 30-day scoping period or 15 days after the last public meeting, whichever is later. The date(s) and time(s) of scoping meetings will be announced at least 15 days in advance through local news releases, newspapers, letters and/or postcards, local stakeholder email list, and through BLM Alaska social media.

ADDRESSES: You may submit comments on issues and planning criteria related to the RMP Amendment and EA addressing OHV route designation on Campbell Tract by any of the following methods:

• Website: https://eplanning.blm.gov/eplanning-ui/project/2022130/510.

• Email: blm_ak_afo_general_delivery@blm.gov.

• Fax: (907) 267-1267.

• Mail: BLM, Campbell Tract OHV Designation Amendment, Attn.: RMPA EA, 4700 BLM Road, Anchorage, AK 99507.

Documents pertinent to this proposal may be examined online at https://eplanning.blm.gov/eplanning-ui/project/2022130/510 and at the Anchorage Field Office, 4700 BLM Road, Anchorage, Alaska 99507.

FOR FURTHER INFORMATION CONTACT: Jake Vialpando, Field Manager, telephone (907) 267-1246; address 4700 BLM Road, Anchorage, Alaska 99507; email blm_ak_afo_general_delivery@blm.gov. Contact Jake Vialpando to have your name added to our mailing list. Individuals in the United States who are deaf, deafblind, hard of hearing, or have a speech disability may dial 711 (TTY, TDD, or TeleBraille) to access telecommunications relay services for contacting Mr. Vialpando. Individuals outside the United States should use the relay services offered within their country to make international calls to the point-of-contact in the United States.

SUPPLEMENTARY INFORMATION: This document provides notice that the BLM Alaska State Director intends to prepare an RMP amendment with an associated EA for the Campbell Tract OHV Designation Amendment within the Anchorage Field Office, announces the beginning of the scoping process, and seeks public input on issues and planning criteria. The RMP amendment is being considered to allow the BLM to conduct travel management planning to evaluate authorizing electric bicycles (e-bikes) on existing trails within the Campbell Tract Special Recreation Management Area (SRMA), which would require amending the existing 2008 Ring of Fire RMP.

The planning area is in the Municipality of Anchorage, Alaska, and encompasses approximately 730 acres of public land. The Campbell Tract SRMA is in an urban setting where the routes are connected to municipal park land in Far North Bicentennial Park and adjacent state park lands in Chugach State Park, both of which currently authorize specific types of electric vehicles where traditional bicycles are allowed.

Purpose and Need

The purpose of the project is to establish management guidance specific to OHV use, including e-bikes, on public lands within the Campbell Tract SRMA. The need for this planning effort is to provide for recreation opportunities for a wide variety of user groups in a multi-use setting appropriate for a variety of recreation uses. The 2008 Ring of Fire RMP currently identifies the Campbell Tract SRMA as closed for OHVs. There is a need to amend the Ring of Fire RMP to allow for consideration of management of e-bikes on existing trails.

Preliminary Alternatives

The RMP amendment process will consider whether revising the Campbell Tract SRMA OHV designation from “Closed” to “Limited by vehicle type”, would be allowed, which could authorize vehicles such as Class I e-bikes to be used on the trail system. Preliminary alternatives include the No Action Alternative and the Proposed Action: changing the current OHV designation of “Closed” to “Limited by Vehicle Type” to potentially allow for advances in recreational electric vehicle technology and provide a seamless recreation trail experience with adjacent park lands. The BLM welcomes comments on all preliminary alternatives, as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies, Tribes, and other stakeholders. The BLM has identified eleven preliminary issues for this planning effort's analysis. The planning criteria are available for public review and comment at the ePlanning website (see ADDRESSES).

Public Scoping Process

This notice of intent initiates the scoping period and public review of the planning criteria, which guide the development and analysis of the RMP Amendment and EA.

The BLM public scoping meeting for this project will be in person and/or virtual. Public comments will be accepted at the scoping meeting. The specific date(s) and location(s) of the scoping meeting will be announced at least 15 days in advance through local media, newspapers, and the project ePlanning page. You may submit comments to the BLM using one of the methods listed in the ADDRESSES section previously.

Interdisciplinary Team

The BLM will use an interdisciplinary approach to develop the plan in order to consider the variety of resource issues and concerns identified. Specialists with expertise in the following disciplines will be involved in this planning effort: cultural/Tribal, fisheries, hazardous material, hydrology, lands, range/wildlife/threatened and endangered species, recreation/travel management/visual, riparian, subsistence, vegetation, and environmental education.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Alaska Native Corporations and Alaska Native Tribes on a government-to-government basis in accordance with Executive Order 13175, BLM MS 1780, and other Departmental policies. Tribal concerns, including impacts on Indian trust assets and potential impacts to cultural resources, will be given due consideration. Federal, State, and local agencies, along with Alaska Native Tribes and stakeholders that may be interested in or affected by the proposed Campbell Tract OHV Designation Amendment that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Steven M. Cohn,
State Director.

[FR Doc. 2023-05837 Filed 3-21-23; 8:45 am]

BILLING CODE 4331-10-P